DEPARTMENT OF COMMERCE

National Oceanic and Atmospheric Administration

RIN 0648-XE960

Mid-Atlantic Fishery Management Council (MAFMC); Meeting

AGENCY: National Marine Fisheries Service (NMFS), National Oceanic and Atmospheric Administration (NOAA), Commerce.

ACTION: Notice of a public meeting.

SUMMARY: The Mid-Atlantic Fishery Management Council's (MAFMC's) Summer Flounder, Scup, and Black Sea Bass Monitoring Committee will hold a public meeting.

DATES: The meeting will begin at 1 p.m. on Wednesday, November 9, 2016, and end at 3 p.m. on Thursday, November 10, 2016, to view the agenda see SUPPLEMENTARY INFORMATION.

ADDRESSES: The meeting will be held at the Admiral Fell Inn, 888 S. Broadway, Baltimore, MD 21231; telephone: (410) 522-7377.

Council address: Mid-Atlantic Fishery Management Council, 800 N. State Street, Suite 201, Dover, DE 19901; telephone: (302) 674-2331 or on their Web site, at www.mafmc.org.

FOR FURTHER INFORMATION CONTACT: Christopher M. Moore, Ph.D., Executive Director, Mid-Atlantic Fishery Management Council, telephone: (302) 526-5255.

SUPPLEMENTARY INFORMATION:

Agenda

The Mid-Atlantic Fishery Management Council's Summer Flounder, Scup, and Black Sea Bass Monitoring Committee will meet November 9 and 10 to develop recommendations for recreational management measures for the summer flounder, scup, and black sea bass fisheries for the 2017 fishing year. The Committee may also discuss initial analyses related to a possible scup commercial seasons framework action. A detailed agenda and background documents will be made available on the Council's Web site (www.mafmc.org) prior to the meeting.

Special Accommodations

These meetings are physically accessible to people with disabilities. Requests for sign language interpretation or other auxiliary aid should be directed to M. Jan Saunders, (302) 526-5251, at least 5 days prior to the meeting date.

Authority: 16 U.S.C. 1801 et seq.

Dated: October 12, 2016.
Tracey L. Thompson,
Acting Director, Office of Sustainable Fisheries, National Marine Fisheries Service.

[FR Doc. 2016-25090 Filed 10-17-16; 8:45 am]

BILLING CODE 3510-22-P